ENVIRONMENTAL PROTECTION AGENCY

[FRL-9536-3]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. Seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1666.09; NESHAP for Commercial Ethylene Oxide Sterilization and Fumigation Operations; 40 CFR part 63 subparts A and O; was approved on 08/01/2013; OMB Number 2060-0283; expires on 08/31/2016; Approved without change.

EPA ICR Number 1926.06; NSPS for Commercial and Industrial Solid Waste Incineration Units; 40 CFR part 60 subparts A and CCCC; was approved on 08/01/2013; OMB Number 2060-0450; expires on 08/31/2016; Approved without change.

EPA ICR Number 1927.06; Emission Guidelines for Existing Commerce and Industrial Solid Waste Incineration Units; 40 CFR part 60 subparts A and DDDD; was approved on 08/01/2013; OMB Number 2060-0451; expires on 08/31/2016; Approved without change.

EPA ICR Number 2195.04; Submission of Protocols and Study Reports for Environmental Research Involving Human Subjects; 40 CFR part 26; was approved on 08/12/2013; OMB Number 2070-0169; expires on 08/31/2016; Approved with change.

EPA ICR Number 2047.04; Participation by Disadvantaged Business Enterprises in Procurement under EPA Financial Assistance Agreements (Reinstatement); was approved on 08/13/2013; OMB Number 2090-0030; expires on 08/31/2015; Approved with change.

EPA ICR Number 0877.12; RadNet (Renewal); was approved on 08/15/2013; OMB Number 2060-0015; expires on 08/31/2016; Approved without change.

EPA ICR Number 0795.14; Notification of Chemical Exports—TSCA Section 12(b); 40 CFR part 707 subpart D; was approved on 08/16/2013; OMB Number 2070-0030; expires on 08/31/2016; Approved without change.

EPA ICR Number 2302.02; EPA's Design for the Environment Formulator Product Recognition Program; was approved on 08/20/2013; OMB Number 2070-0178; expires on 08/31/2016; Approved with change.

EPA ICR Number 1058.11; NSPS for Incinerators; 40 CFR part 60 subparts A and E; was approved on 08/26/2013; OMB Number 2060-0040; expires on 08/31/2016; Approved without change.

EPA ICR Number 2213.04; Control of Evaporative Emissions from New and In-Use Portable Gasoline Containers (Renewal); 40 CFR part 59 subpart F; was approved on 08/26/2013; OMB Number 2060-0597; expires on 08/31/2016; Approved without change.

EPA ICR Number 2096.05; NESHAP for Iron and Steel Foundries; 40 CFR part 63 subparts A and EEEEE; was approved on 08/26/2013; OMB Number 2060-0543; expires on 08/31/2016; Approved without change.

EPA ICR Number 1139.09; TSCA Section 4 Test Rules, Consent Orders, Enforceable Consent Agreements, Voluntary Testing Agreements, Voluntary Data Submissions, and Exemptions from Testing Requirement; 40 CFR parts 790 and 799; was approved on 08/28/2013; OMB Number 2070-0033; expires on 08/31/2016; Approved with change.

EPA ICR Number 1963.05; NESHAP for Organic Liquids Distribution (Non-Gasoline) Facilities; 40 CFR part 63 subparts A and EEEE; was approved on 08/28/2013; OMB Number 2060-0539; expires on 08/31/2016; Approved without change.

EPA ICR Number 0597.11; Tolerance Petitions for Pesticides on Food/Feed Crops and New Inert Ingredients; 40 CFR part 180; was approved on 08/28/2013; OMB Number 2070-0024; expires on 08/31/2016; Approved without change.

Comment Filed

EPA ICR Number 2446.01; Implementation of the Formaldehyde Emissions Standards for Composite Wood Products Act; Reporting and Recordkeeping Requirements (Proposed Rule); in 40 CFR part 770; OMB filed comment on 08/13/2013.

EPA ICR Number 2441.01; Formaldehyde Emissions From Composite Wood Products, Third-Party Certification Framework, Recordkeeping and Reporting (Proposed Rule); in 40 CFR part 770; OMB filed comment on 08/13/2013.

Withdrawn and Continue

EPA ICR Number 1696.07; Fuels and Fuel Additives: Health-Effects Research Requirements for Manufacturers; Withdrawn from OMB and Continue existing collection on August 27, 2013.

John Moses,
Director, Collections Strategies Division.

[FR Doc. 2013-22230 Filed 9-12-13; 8:45 am]

BILLING CODE 6560-50-P